INTERNATIONAL TRADE COMMISSION

[Investigation No. 337-TA-1427]

Certain Components for Injection Molding Machines, and Products Containing the Same; Notice of Institution of Investigation

AGENCY: U.S. International Trade Commission.

ACTION: Notice.

SUMMARY: Notice is hereby given that a complaint was filed with the U.S. International Trade Commission on November 12, 2024, under section 337 of the Tariff Act of 1930, as amended, on behalf of Husky Injection Molding Systems LTD. of Canada and Husky Injection Molding Systems, Inc. of Milton, Vermont. Husky filed a supplemental complaint on November 29, 2024, and subsequently refiled the same “supplemental” complaint as an amended complaint on December 2, 2024. The amended complaint, alleges violations of section 337 based upon the importation into the United States, the sale for importation, and the sale within the United States after importation of certain components for injection molding machines, and products containing the same by reason of the infringement of certain claims of U.S. Patent No. 9,713,891 (“the '891 patent”); U.S. Patent No. 11,794,375 (“the '375 patent”); U.S. Patent No. 10,093,053 (“the '053 patent”); U.S. Patent No. 8,834,149 (“the '149 patent”); and U.S. Patent No. 7,645,132 (“the '132 patent”). The amended complaint further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on December 12, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-2, 4, and 6-8 of the '891 patent; 1-3, 5-15, and 17-21 of the '375 patent; claims 1-4, 6, and 8-10 of the '053 patent; claims 1-9 and 18 of the '149 patent; and claims 1-4, 7, 10-12, 14-19, 21-24, and 26 of the '132 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “mold products, cavity insert products, and molding apparatus products for injection molding machines, components for injection molding machines and products containing the same”;

(3) For the purpose of the investigation so instituted, the following are hereby named as parties upon which this notice of investigation shall be served:

(a) The complainants are:

Husky Injection Molding Systems LTD., 500 Queen Street South, Bolton, Ontario, Canada L7E 5S5

Husky Injection Molding Systems, Inc., 288 North Road, Milton, VT, USA, 05468

(b) The respondent is the following entity alleged to be in violation of section 337, and is the party upon which the complaint is to be served:

NINGBO AO SHENG MOLD CO., LTD., d/b/a AOSIMI, No. 8 Xingde Rd. Ditang Ave. YuYao, Zhejiang 315480, China

(4) For the investigation so instituted, the Chief Administrative Law Judge, U.S. International Trade Commission, shall designate the presiding Administrative Law Judge.

Responses to the complaint and the notice of investigation must be submitted by the named respondent in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 12, 2024.
Lisa Barton,
Secretary to the Commission.

[FR Doc. 2024-29906 Filed 12-17-24; 8:45 am]

BILLING CODE 7020-02-P